DEPARTMENT OF THE INTERIOR

National Park Service

[NPS-WASO-NRNHL-13556; PPWOCRADI0, PCU00RP14.R50000]

National Register of Historic Places; Notification of Pending Nominations and Related Actions

Nominations for the following properties being considered for listing or related actions in the National Register were received by the National Park Service before July 13, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by August 27, 2013. Before including your address, phone number, email address, or other personal identifying information in your comment, you should be aware that your entire comment—including your personal identifying information—may be made publicly available at any time.

While you can ask us in your comment to withhold your personal identifying information from public review, we cannot guarantee that we will be able to do so.

Dated: July 18, 2013.
Alexandra Lord,
Acting Chief, National Register of Historic Places/National Historic Landmarks Program.

ALASKA

Matanuska-Susitna Borough-Census Area

Sutton Community Hall, Jonesville Rd., Sutton, 13000617

CONNECTICUT

New London County

Merrill, James, House, 107 Water St., Stonington, 13000618

DISTRICT OF COLUMBIA

District of Columbia

District of Columbia War Memorial, Independence Ave. between 17th & 23rd Sts. SW., Washington, 13000619

Scriven, BG George P., House, 1300 New Hampshire Ave., NW., Washington, 13000620

KANSAS

Ford County

Junction of the Santa Fe Trail Wet and Dry Routes (Santa Fe Trail MPS) Address Restricted, Fort Dodge, 13000652

Grant County

Santa Fe Trail—Grant County Trail Segment 2 (Santa Fe Trail MPS), Address Restricted, Ulysses, 13000653

Hodgeman County

Duncan's Crossing on the Fort Hays—Fort Dodge Road (Santa Fe Trail MPS), Address Restricted, Hanston, 13000654

Kearny County

Bear Creek Pass Santa Fe Trail Segment (Santa Fe Trail MPS), Address Restricted, Lakin, 13000655

Santa Fe Trail—Kearny County Segment 2, (Santa Fe Trail MPS), Address Restricted, Lakin, 13000656

Rice County

Little Arkansas River Crossing (Santa Fe Trail MPS), Address Restricted, Windom, 13000658

Santa Fe Trail—Rice County Segment 4 (Santa Fe Trail MPS), Address Restricted, Chase, 13000659

MASSACHUSETTS

Suffolk County

Rosendale Substation, 4228 Washington St., Boston, 13000621

Worcester County

District No. 5 School, 2 Old Mill Rd., Shrewsbury, 13000622

Foster, Jedediah, Homesite, Foster Hill Rd., West Brookfield, 13000623

MONTANA

Cascade County

Old U.S. Highway 91 Historic District, Between I-15 Spring Cr. & Hardy Cr. Interchanges, Wolf Creek, 13000624

NEW YORK

Broome County

West Endicott Hose Company No. 1, 113 N. Page Ave., West Endicott, 13000625

Essex County

Lake View Grange No. 970, 22 Champlain Ave., Westport, 13000626

Herkimer County

Oak Hill Cemetery, W. German St., Herkimer, 13000627

Onondaga County

Trinity Episcopal Church, (Historic Churches of the Episcopal Diocese of Central New York MPS) 523 W. Onondaga St., Syracuse, 13000628

Rensselaer County

Adams—Myers—Bryan Farmstead, 314 Stover Rd., Valley Falls, 13000629

Coletti—Rowland—Agan Farmstead, 82 Cooksboro Rd., Troy, 13000631

Saratoga County

Packer Farm and Barkersville Store, 7189 Barkersville Rd., Middle Grove, 13000630

Ulster County

Congregation Tifereth Yehuda Veyisroel, 24-26 Minnewaska Trail, Kerhonkson, 13000632

NORTH CAROLINA

Buncombe County

Elmore, Bruce A. and June L., Lustron House, 70 Hampden Rd., Asheville, 13000635

Caldwell County

Hudson Cotton Manufacturing Company, 447 Main St., Hudson, 13000636

Catawba County

Whisnant Hosiery Mills, 74 8th St., SE., Hickory, 13000637

NORTH DAKOTA

Grand Forks County

Hariman Sanatorium, 2002 University Ave., Grand Forks, 13000633

Skarsbo Apartments, 204 & 210 N. 6th St., Grand Forks, 13000634

PUERTO RICO

Ponce Municipality

Edificio Empresas Ferre, (Rafael Rios Rey MPS) 834 Eugenio Maria de Hostos Ave., Ponce Playa, 13000638

Edificio Municipal de la Playa de Ponce, 28 Alfonso XII St., Ponce, 13000639

UTAH

Salt Lake County

Bennion, Howard and Marian, House, 2136 E. Hubbard Ave., Salt Lake City, 13000640

Mabey, Albert and Celestine, House, (South Jordan, Utah MPS) 10201 S. 1300 West, South Jordan, 13000641

VIRGINIA

Hanover County

Ashland UDC Jefferson Davis Highway Marker, (UDC Commemorative Highway Markers along the Jefferson Davis Highway in Virginia) Jct. of Cedar Ln. & Washington Hwy., Glen Allen, 13000642

Norfolk Independent city

Elmwood Cemetery, 238 E. Princess Anne Rd., Norfolk (Independent City), 13000643

Richmond Independent city

Main Street Banking Historic District (Boundary Increase), 700, 703, 705-711, 801, 830-838 Main St., E., 7 7th & 28 6th Sts., S., Richmond (Independent City), 13000644

Roanoke Independent city

Melrose—Rugby Historic District, Mercer, Grayson, & Carroll Aves., NW., Rugby Blvd., NW., 10th, 11th, 12th, 13th & 14th Sts., NW., Roanoke (Independent City), 13000645

Riverland Historic District, Laural, Primrose, Whitman & Ivy Sts., Riverland Rd., Walnut & Arbutus Aves., Roanoke (Independent City), 13000646

Roanoke Downtown Historic District (Boundary Increase), 300-400 blk. Church & 300-400 blk. Luck Aves., SW., 600-700 blk. S. Jefferson St., 401 3rd & 502 5th Sts., SW., Roanoke (Independent City), 13000647

Southampton County

Sebrell Rural Historic District, Roughly bounded by Nottoway R., Assamoosick Swamp & Old Hickory Rd., Sebrell, 13000648

Surry County

Walnut Valley, Address Restricted, Highgate, 13000649

Winchester Independent city

Fort Loudoun Site, Address Restricted, Winchester (Independent City), 13000650

WISCONSIN

Clark County

Hediger, Herman M. and Hanna, House, 8 Grand Ave., Neillsville, 13000651

A request to remove has been made for the following resources:

TENNESSEE

Sullivan County

Roseland, S. of Kingsport on Shipp St. Kingsport, 73001847

UTAH

Box Elder County

Box Elder High School Gymnasium, 18 N. 400 East, Brigham City, 85000796

[FR Doc. 2013-19398 Filed 8-9-13; 8:45 am]

BILLING CODE 4312-51-P